DEPARTMENT OF ENERGY

Federal Energy Regulatory Commission

Combined Notice of Filings #1

Take notice that the Commission received the following exempt wholesale generator filings:

Docket Numbers: EG20-192-000.

Applicants: SR Snipesville, LLC.

Description: Notice of Self-Certification of Exempt Wholesale Generator Status of SR Snipesville, LLC.

Filed Date: 6/18/20.

Accession Number: 20200618-5069.

Comments Due: 5 p.m. ET 7/9/20.

Take notice that the Commission received the following electric rate filings:

Docket Numbers: ER10-1437-011.

Applicants: Tampa Electric Company.

Description: Updated Market Power Analysis for the Southeast Region of Tampa Electric Company.

Filed Date: 6/18/20.

Accession Number: 20200618-5143.

Comments Due: 5 p.m. ET 8/17/20.

Docket Numbers: ER20-1833-001.

Applicants: GenOn Mid-Atlantic, LLC.

Description: Tariff Amendment: Change in Proposed Effective Date of Reactive Service Rate Schedule Revision to be effective 8/13/2020.

Filed Date: 6/17/20.

Accession Number: 20200617-5162.

Comments Due: 5 p.m. ET 7/8/20.

Docket Numbers: ER20-2082-000.

Applicants: PJM Interconnection, L.L.C.

Description: § 205(d) Rate Filing: Amendment to ISA SA No. 3175; Queue No. AB2-001 RE: GSRP II (consent) to be effective 11/15/2016.

Filed Date: 6/17/20.

Accession Number: 20200617-5148.

Comments Due: 5 p.m. ET 7/8/20.

Docket Numbers: ER20-2083-000.

Applicants: PJM Interconnection, L.L.C.

Description: § 205(d) Rate Filing: Amendment to WMPA No. 3203, W3-079, RE: GSRP I to GSRP II (consent) to be effective 4/7/2017.

Filed Date: 6/17/20.

Accession Number: 20200617-5155.

Comments Due: 5 p.m. ET 7/8/20.

Docket Numbers: ER20-2084-000.

Applicants: PJM Interconnection, L.L.C.

Description: § 205(d) Rate Filing: Amendment to WMPAs SA No. 3257, Queue No. W4-057 RE: GSRP to GSRP II (consent) to be effective 10/28/2014.

Filed Date: 6/17/20.

Accession Number: 20200617-5158.

Comments Due: 5 p.m. ET 7/8/20.

Docket Numbers: ER20-2085-000.

Applicants: PJM Interconnection, L.L.C.

Description: § 205(d) Rate Filing: Amendment to WMPAs No. 3276, Queue No. X1-012 RE: GSRP I to GSRP II (consent) to be effective 1/24/2017.

Filed Date: 6/17/20.

Accession Number: 20200617-5160.

Comments Due: 5 p.m. ET 7/8/20.

Docket Numbers: ER20-2086-000.

Applicants: PJM Interconnection, L.L.C.

Description: § 205(d) Rate Filing: Amendment to WMPA, SA No. 3503; Queue No. X4-031 RE: GSRP I to GSRP II (consent) to be effective 8/25/2014.

Filed Date: 6/17/20.

Accession Number: 20200617-5161.

Comments Due: 5 p.m. ET 7/8/20.

Docket Numbers: ER20-2087-000.

Applicants: Gichi Noodin Wind Farm, LLC.

Description: Baseline eTariff Filing: Gichi Noodin Wind Farm LLC MBR Application Filing to be effective 8/1/2020.

Filed Date: 6/17/20.

Accession Number: 20200617-5163.

Comments Due: 5 p.m. ET 7/8/20.

Docket Numbers: ER20-2088-000.

Applicants: Southern California Edison Company.

Description: § 205(d) Rate Filing: Amended LGIA Daggett Solar Power 3 LLC SA No. 225 to be effective 6/19/2020.

Filed Date: 6/18/20.

Accession Number: 20200618-5001.

Comments Due: 5 p.m. ET 7/9/20.

Docket Numbers: ER20-2089-000.

Applicants: Southwestern Public Service Company.

Description: § 205(d) Rate Filing: 2020-06-18_SPS-GSEC-DSEC-IA-Sub 26-718-SPS-0.0.0 to be effective 8/17/2020.

Filed Date: 6/18/20.

Accession Number: 20200618-5042.

Comments Due: 5 p.m. ET 7/9/20.

Docket Numbers: ER20-2090-000.

Applicants: New York Independent System Operator, Inc., Consolidated Edison Company of New York, Inc.

Description: § 205(d) Rate Filing: LGIA (SA2535) re: NYISO, Consolidated Edison, & NRG Berrians East Development to be effective 6/4/2020.

Filed Date: 6/18/20.

Accession Number: 20200618-5049.

Comments Due: 5 p.m. ET 7/9/20.

Docket Numbers: ER20-2091-000.

Applicants: Alabama Power Company.

Description: § 205(d) Rate Filing: CED Solar Development (Timberland Solar) Amended and Restated LGIA Filing to be effective 6/5/2020.

Filed Date: 6/18/20.

Accession Number: 20200618-5055.

Comments Due: 5 p.m. ET 7/9/20.

Docket Numbers: ER20-2092-000.

Applicants: Southwest Power Pool, Inc.

Description: § 205(d) Rate Filing: 3672 City of Independence, MO/Evergy Metro Int Agr to be effective 8/17/2020.

Filed Date: 6/18/20.

Accession Number: 20200618-5065.

Comments Due: 5 p.m. ET 7/9/20.

Docket Numbers: ER20-2093-000.

Applicants: Southwest Power Pool, Inc.

Description: § 205(d) Rate Filing: 3673 OPPD & Evergy Kansas Central Interconnection Agreement to be effective 8/17/2020.

Filed Date: 6/18/20.

Accession Number: 20200618-5070.

Comments Due: 5 p.m. ET 7/9/20.

Docket Numbers: ER20-2094-000.

Applicants: Southwest Power Pool, Inc.

Description: § 205(d) Rate Filing: 3199R1 Evergy MO West/City of Liberal MO Interconnection Ag to be effective 8/17/2020.

Filed Date: 6/18/20.

Accession Number: 20200618-5073.

Comments Due: 5 p.m. ET 7/9/20.

Docket Numbers: ER20-2095-000.

Applicants: PJM Interconnection, L.L.C.

Description: § 205(d) Rate Filing: Amendment to WMPA, SA No. 3202; Queue No. W3-077 (amend) to be effective 4/30/2014.

Filed Date: 6/18/20.

Accession Number: 20200618-5074.

Comments Due: 5 p.m. ET 7/9/20

Docket Numbers: ER20-2096-000.

Applicants: Southwest Power Pool, Inc.

Description: § 205(d) Rate Filing: 3218R1 Evergy Metro & Evergy Missouri West Inter Agr to be effective 8/17/2020.

Filed Date: 6/18/20.

Accession Number: 20200618-5077.

Comments Due: 5 p.m. ET 7/9/20.

Docket Numbers: ER20-2097-000.

Applicants: American Transmission Systems, Incorporated, PJM Interconnection, L.L.C.

Description: § 205(d) Rate Filing: ATSI submits ECSA No. 5644 to be effective 8/17/2020.

Filed Date: 6/18/20.

Accession Number: 20200618-5096.

Comments Due: 5 p.m. ET 7/9/20.

Docket Numbers: ER20-2098-000.

Applicants: Titan Solar 1, LLC.

Description: Baseline eTariff Filing: baseline new to be effective 8/17/2020.

Filed Date: 6/18/20.

Accession Number: 20200618-5110.

Comments Due: 5 p.m. ET 7/9/20.

Docket Numbers: ER20-2099-000.

Applicants: American Transmission Systems, Incorporated, PJM Interconnection, L.L.C.

Description: § 205(d) Rate Filing: ATSI submits ECSA No. 5583 to be effective 8/17/2020.

Filed Date: 6/18/20.

Accession Number: 20200618-5112.

Comments Due: 5 p.m. ET 7/9/20.

Docket Numbers: ER20-2100-000.

Applicants: The Dayton Power and Light Company, PJM Interconnection, L.L.C.

Description: § 205(d) Rate Filing: DP&L submits Supplemental Filing to Application filed in ER20-1068-000 to be effective 5/3/2020.

Filed Date: 6/18/20.

Accession Number: 20200618-5132.

Comments Due: 5 p.m. ET 7/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2020.
Nathaniel J. Davis, Sr.,
Deputy Secretary.

[FR Doc. 2020-13621 Filed 6-23-20; 8:45 am]

BILLING CODE 6717-01-P